DEPARTMENT OF COMMERCE

International Trade Administration

[A-552-801]

Certain Frozen Fish Fillets From the Socialist Republic of Vietnam: Notice of Partial Rescission of the Sixth Antidumping Duty Administrative Review

AGENCY: Import Administration, International Trade Administration, Department of Commerce.

Summary: The Department of Commerce (“Department”) is conducting an administrative review of the antidumping duty order on certain frozen fish fillets from the Socialist Republic of Vietnam (“Vietnam”). See Notice of Antidumping Duty Order: Certain Frozen Fish Fillets From the Socialist Republic of Vietnam, 68 FR 47909 (August 12, 2003). On September 22, 2009, the Department initiated the August 1, 2008, through July 31, 2009, antidumping duty administrative review on certain frozen fish fillets from Vietnam. See Initiation of Antidumping and Countervailing Duty Administrative Reviews and Deferral of Administrative Review, 74 FR 48224, (September 22, 2009). The Department initiated this review with respect to 22 companies.¹

¹ These companies include: 1) An Giang Fisheries Import and Export Joint Stock Company (aka Agifish or; AnGiang Fisheries Import and Export); 2) Anvifish Co., Ltd.; 3) Anvifish Joint Stock Company (“Anvifish JSC”); 4) Asia Commerce Fisheries Joint Stock Company (aka Acomfish JSC) (“Acomfish”); 5) Binh An Seafood Joint Stock Co. (“Binh An”); 6) Cadovimex II Seafood Import-Export and Processing Joint Stock Company; (aka Cadovimex II) (“Cadovimex II”); 7) CUU Long Fish Joint Stock Company (aka CL-Fish) (“CL-Fish”); 8) East Sea Seafoods Limited Liability Company (formerly known as East Sea Seafoods Joint Venture Co., Ltd.); 9) East Sea Seafoods Joint Venture co., Ltd. (aka East Sea Seafoods LLC); 10) Hiep Thanh Seafood Joint Stock Co. (“Hiep Thanh”); 11) Nam Viet Company Limited (aka NAVICO) (“NAVICO”); 12) NTSF Seafoods Joint Stock Company (aka NTSF) (“NTSF”); 13) Panga Mekong Co., Ltd. (“Panga Mekong”); 14) QVD Food Company, Ltd. (“QVD”); 15) QVD Dong Thap Food Co., Ltd. (“QVD DT”); 16) Saigon-Mekong Fishery Co., Ltd. (aka SAMEFICO) (“SAMEFICO”); 17) Southern Fishery Industries Company, Ltd. (aka South Vina); 18) Thien Ma Seafood Co., Ltd. (“Thien Ma”); 19) Thuan Hung Co., Ltd. (aka THUFICO) (“Thuan Hung”); 20) Vinh Hoan Corporation; 21) Vinh Hoan Company, Ltd. and; 22) Vinh Quang Fisheries Corporation (“Vinh Quang”).

On January 7, 2010, QVD withdrew its request for an administrative review. On January 8, 2010, Anvifish JSC withdrew its request for an administrative review. On January 8, 2010, Petitioners² partially withdrew their August 31, 2009, request for an administrative review for 13 companies, including Vinh Quang.³ However, the Department will continue the administrative review with respect to Vinh Quang as this exporter did not withdraw its request and the company was chosen as a mandatory respondent.⁴ The preliminary results of this administrative review are currently due no later than August 8, 2010.⁵

² Catfish Farmers of America and individual U.S. catfish processors, America's Catch, Consolidated Catfish Companies, LLC dba Country Select Catfish, Delta Pride Catfish, Inc., Harvest Select Catfish, Inc., Heartland Catfish Company, Pride of the Pond, and Simmons Farm Raised Catfish, Inc.

³ These companies include: 1) Cadovimex II; 2) CL-Fish; 3) Hiep Thanh; 4) NAVICO; 5) NTSF; 6) Panga Mekong; 7) QVD; 8) SAMEFICO; 9) Thien Ma; 10) Thuan Hung; 11) Vinh Quang; 12) QVD DT, and; 13) Anvifish.

⁴ See Memorandum to James C. Doyle, Office 9 Director, through Alex Villanueva, Office 9 Program Manager, from Emeka Chukwudebe, Case Analyst, dated January 29, 2010, Antidumping Duty Administrative Review of Certain Frozen Fish Fillets from the Socialist Republic of Vietnam (“Vietnam”): Replacement of Mandatory Respondent (“Replacement of Mandatory Respondent Memo”).

⁵ See Certain Frozen Fish Fillets from the Socialist Republic of Vietnam: Extension of Time Limit for Preliminary Results of the 6th Antidumping Duty Administrative and 6th New Shipper Reviews, 75 FR 20983 (April 22, 2010).

EFFECTIVE DATE: May 27, 2010.

FOR FURTHER INFORMATION CONTACT: Emeka Chukwudebe and Javier Barrientos, Office 9, AD/CVD Operations, Import Administration, International Trade Administration, U.S. Department of Commerce, 14th Street and Constitution Avenue, NW., Washington, DC 20230; telephone: (202) 482-0219 and (202) 482-2243, respectively.

Partial Rescission of Review

The applicable regulation, 19 CFR 351.213(d)(1), states that if a party that requested an administrative review withdraws the request within 90 days of the publication of the notice of initiation of the requested review, the Secretary will rescind the review. Petitioners withdrew their review request with respect to 13 exporters of subject merchandise within the 90-day deadline, in accordance with 19 CFR 351.213(d)(1). Respondents, QVD and Anvifish, also withdrew their respective requests for review within the 90-day deadline.

Therefore, in accordance with 19 CFR 351.213(d)(1), we are partially rescinding this review with respect to the following companies: Cadovimex II; CL-Fish; Hiep Thanh; NAVICO; NTSF; Panga Mekong; QVD; QVD DT; Thuan Hung; SAMEFICO; Thien Ma; Anvifish Co., Ltd.; and Anvifish JSC.⁶

⁶ On October, 13, 2010, Binh An and Acomfish submitted no shipment certifications. However, we will address these claims and any possible rescission thereof, in the preliminary results.

Assessment Rates

The Department will instruct U.S. Customs and Border Protection (“CBP”) to assess antidumping duties on all appropriate entries. For those companies for which this review has been rescinded and which have a separate rate from a prior segment of this proceeding, antidumping duties shall be assessed at rates equal to the cash deposit of estimated antidumping duties required at the time of entry, or withdrawal from warehouse, for consumption, in accordance with 19 CFR 351.212(c)(2). Accordingly, the Department intends to issue appropriate assessment instructions directly to CBP 15 days after publication of this notice for the following companies; QVD; QVD DT; Thuan Hung; Hiep Thanh; Cadovimex II; SAMEFICO; and Anvifish Co., Ltd.

The Department cannot order liquidation for companies which, although they are no longer under review as a separate entity, may still be under review as part of the Vietnam-wide entity. Therefore, the Department cannot, at this time, order liquidation of entries for the following companies: CL-Fish; NAVICO; NTSF; Panga Mekong; Thien Ma; and Anvifish JSC.⁷ The Department intends to issue liquidation instructions for the Vietnam-wide entities 15 days after publication of the final results of this review.

⁷ In its January 8, 2010, withdrawal letter, Anvifish JSC claims that it is also known as Anvifish Co., Ltd. (the company presently assigned a separate rate). However, there is no information on the record establishing that Anvifish JSC was assigned a separate rate in a prior segment of this proceeding.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: May 19, 2010.
John M. Andersen,
Acting Deputy Assistant Secretary for Antidumping and Countervailing Duty Operations.

[FR Doc. 2010-12811 Filed 5-26-10; 8:45 am]

BILLING CODE 3510-DS-S